DEPARTMENT OF COMMERCE

International Trade Administration

[A-479-801]

Revocation of Antidumping Duty Order: Industrial Nitrocellulose From Yugoslavia

AGENCY: Import Administration, International Trade Administration, Department of Commerce.

ACTION: Revocation of antidumping duty order: Industrial nitrocellulose from Yugoslavia.

SUMMARY: Pursuant to section 751(c) of the Tariff Act of 1930, as amended (“the Act”), the United States International Trade Commission (“the Commission”) determined that revocation of the antidumping duty order on industrial nitrocellulose from Yugoslavia is not likely to lead to continuation or recurrence of material injury to an industry in the United States within a reasonably foreseeable time. See 65 FR 52786 (August 30, 2000). Therefore, pursuant to section 751(d)(2) of the Act and 19 CFR 351.222(i)(1), the Department of Commerce (“the Department”) is revoking the antidumping duty order on industrial nitrocellulose from Yugoslavia. Pursuant to section 751(c)(6)(A) of the Act and 19 CFR 351.222(i)(2), the effective date of revocation is January 1, 2000.

EFFECTIVE DATE: January 1, 2000.

FOR FURTHER INFORMATION CONTACT: Martha V. Douthit or James P. Maeder, Office of Policy for Import Administration, International Trade Administration, U.S. Department of Commerce, 14th Street and Constitution Avenue, NW., Washington, DC 20230; telephone: (202) 482-5050 or (202) 482-3330, respectively.

SUPPLEMENTARY INFORMATION:

Background

On June 1, 1999, the Department initiated, and the Commission instituted, a sunset review (64 FR 29261 and 64 FR 29344) of the antidumping duty order on industrial nitrocellulose from Yugoslavia pursuant to section 751(c) of the Act. As a result of its review, the Department found that revocation of the antidumping duty order would likely lead to continuation or recurrence of dumping and notified the Commission of the magnitude of the margin likely to prevail were the order revoked. See Final Results of Expedited Sunset Review: Industrial Nitrocellulose From Yugoslavia, 64 FR 57852 (October 27, 1999).

On August 30, 2000, the Commission determined, pursuant to section 751(c) of the Act, that revocation of the antidumping duty order on industrial nitrocellulose from Yugoslavia would not be likely to lead to continuation or recurrence of material injury to an industry in the United States within a reasonably foreseeable time. See Industrial Nitrocellulose From Brazil, China, France, Germany, Japan, Korea, the United Kingdom, and Yugoslavia 65 FR 52786 (August 30, 2000), and USITC Publication 3342, Inv. No. 731-TA-96 (Review) (August 2000).

Scope

The merchandise subject to this antidumping duty order is industrial nitrocellulose from Yugoslavia. Industrial nitrocellulose is a dry, white, amorphous synthetic chemical with a nitrogen content between 10.8 and 12.2 percent, and is produced from the reaction of cellulose with nitric acid. Industrial nitrocellulose is used as a film-former in coatings, lacquers, furniture finishes, and printing inks. The scope of this order does not include explosive grade nitrocellulose, which has a nitrogen content greater than 12.2 percent. Industrial nitrocellulose is currently classifiable under Harmonized Tariff Schedule (“HTS”) item number 3912.20.00. The HTS item number is provided for convenience and customs purposes only. The written description remains dispositive.

Determination

As a result of the determination by the Commission that revocation of this antidumping duty order would not be likely to lead to continuation or recurrence of material injury to an industry in the United States, pursuant to section 751(d)(2) of the Act and 19 CFR 351.222(i)(1), the Department hereby orders the revocation of the antidumping duty order on industrial nitrocellulose from Yugoslavia. Pursuant to section 751(c)(6)(A) of the Act and 19 CFR 351.222(i)(2), this revocation is effective January 1, 2000. The Department will instruct the U.S. Customs Service to discontinue suspension of liquidation and collection of cash deposits on entries of the subject merchandise entered or withdrawn from warehouse on or after January 1, 2000 (the effective date). The Department will complete any pending administrative reviews of this order and will conduct administrative reviews of subject merchandise entered prior to the effective date of revocation in response to appropriately filed requests for review.

Dated: September 6, 2000.
Troy H. Cribb,
Acting Assistant Secretary for Import Administration.

[FR Doc. 00-23395 Filed 9-11-00; 8:45 am]

BILLING CODE 3510-DS-P